DEPARTMENT OF COMMERCE

Foreign-Trade Zones Board

[Order No. 2143]

Reorganization of Foreign-Trade Zone 28 Under Alternative Site Framework; New Bedford, Massachusetts

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the City of New Bedford, grantee of Foreign-Trade Zone 28, submitted an application to the Board (FTZ Docket B-49-2022, docketed November 7, 2022) for authority to reorganize under the ASF with a service area of Bristol, Barnstable, Dukes, Nantucket, Norfolk and Plymouth Counties, Massachusetts, in and adjacent to the New Bedford Customs and Border Protection port of entry, and FTZ 28's existing Sites 1 and 2 would be categorized as magnet sites;

Whereas, notice inviting public comment was given in the Federal Register (87 FR 68122-68123, November 14, 2022) and the application has been processed pursuant to the FTZ Act and the Board's regulations; and,

Whereas, the Board adopts the findings and recommendations of the examiner's report, and finds that the requirements of the FTZ Act and the Board's regulations would be satisfied if approval of the service area is limited to Bristol and Plymouth Counties, Massachusetts;

Now, therefore, the Board hereby orders:

The application to reorganize FTZ 28 under the ASF is approved in part, with a service area limited to Bristol and Plymouth Counties, Massachusetts, subject to the FTZ Act and the Board's regulations, including section 400.13, to the Board's standard 2,000-acre activation limit for the zone, and to an ASF sunset provision for magnet sites that would terminate authority for Sites 1 and 2 if not activated within five years from the month of approval.

Dated: May 22, 2023.
Lisa W. Wang,
Assistant Secretary for Enforcement and Compliance, Alternate Chairman, Foreign-Trade Zones Board.

[FR Doc. 2023-11258 Filed 5-25-23; 8:45 am]

BILLING CODE 3510-DS-P